DEPARTMENT OF TRANSPORTATION

National Highway Traffic Safety Administration

49 CFR Parts 523, 531, 533, 536 and 537

[NHTSA-2016-0068]

ENVIRONMENTAL PROTECTION AGENCY

40 CFR Part 86

[EPA-HQ-OAR-2015-0827; FRL-9966-62-OAR]

Request for Comment on Reconsideration of the Final Determination of the Mid-Term Evaluation of Greenhouse Gas Emissions Standards for Model Year 2022-2025 Light-Duty Vehicles; Request for Comment on Model Year 2021 Greenhouse Gas Emissions Standards

AGENCY: National Highway Traffic Safety Administration (NHTSA), Department of Transportation (DOT), Environmental Protection Agency (EPA).

ACTION: Request for comment.

SUMMARY: In a March 22, 2017, Federal Register document, the Environmental Protection Agency (EPA) announced its intention to reconsider the Final Determination of the Mid-term Evaluation of greenhouse gas emissions standards for model year 2022-2025 light-duty vehicles and to coordinate its reconsideration with the parallel rulemaking process to be undertaken by the Department of Transportation's National Highway Traffic Safety Administration (NHTSA) regarding Corporate Average Fuel Economy (CAFE) standards for cars and light trucks for the same model years. In this document, EPA is announcing that it is reconsidering whether the light-duty vehicle greenhouse gas standards previously established for model years 2022-2025 are appropriate under section 202(a) of the Clean Air Act and invites stakeholders to submit any comments, data, and information they believe are relevant to the Administrator's reconsideration of the January 2017 Mid-term Evaluation Final Determination and in particular, highlight any new information. As part of a 2012 joint final rulemaking by the EPA and NHTSA, the Mid-term Evaluation process was codified in EPA regulation for greenhouse gas emission standards for model years 2017-2025 light-duty vehicles, which requires EPA to determine no later than April 1, 2018, whether the standards for model years 2022-2025 are appropriate.¹ In accord with this schedule, as noted in the March 22, 2017, document and this document, EPA intends to make a Final Determination regarding the appropriateness of the model year 2022-2025 standards no later than April 1, 2018. In this document, EPA is also requesting comment on the separate question of whether the light-duty vehicle greenhouse gas standards established for model year 2021 remain appropriate, regardless of the agency's decision on the MTE.

¹ 40 CFR 86.1818-12(h); see also 77 FR 62624 (October 15, 2012).

DATES: Comments must be received on or before October 5, 2017. EPA will announce the public hearing date and location for this document in a supplemental Federal Register publication.

ADDRESSES: Submit your comments, identified by Docket ID No. EPA-HQ-OAR-2015-0827 to the Federal eRulemaking Portal: http://www.regulations.gov. Follow the online instructions. Once submitted, your submittal cannot be edited or withdrawn. The EPA may publish any submittals received to its public docket. Do not submit electronically to the docket any information you consider to be Confidential Business Information (CBI) or other information whose disclosure is restricted by statute. Multimedia submissions (audio, video, etc.) must be accompanied by a written submittal. The written comment is considered the official comment and should include discussion of all points you wish to make. The EPA will generally not consider comments or comment contents located outside of the primary submission (i.e. on the web, cloud, or other file sharing system). Contact the EPA contact person listed below if you would like to provide CBI to the agency for consideration. For additional submission methods, the full EPA public comment policy, information about CBI or multimedia submissions, and general guidance on making effective comments, please visit http://www2.epa.gov/dockets/commenting-epa-dockets.

FOR FURTHER INFORMATION CONTACT: Christopher Lieske, Office of Transportation and Air Quality (OTAQ), Assessment and Standards Division (ASD), Environmental Protection Agency, 2000 Traverwood Drive, Ann Arbor MI 48105; telephone number: (734) 214-4584; email address: lieske.christopher@epa.gov; fax number: 734-214-4816; and Rebecca Schade, Office of the Chief Counsel, National Highway Traffic Safety Administration, 1200 New Jersey Avenue SE., Washington, DC 20590; telephone: (202) 366-2992.

SUPPLEMENTARY INFORMATION:

I. Public Participation

Materials related to the Mid-term Evaluation are available in the public docket noted above and at https://www.epa.gov/regulations-emissions-vehicles-and-engines/midterm-evaluation-light-duty-vehicle-ghg-emissions.

A. How do I prepare and submit information?

Direct your submittals to Docket ID No EPA-HQ-OAR-2015-0827. EPA's policy is that all submittals received will be included in the public docket without change and may be made available online at www.regulations.gov, including any personal information provided, unless the submittal includes information claimed to be Confidential Business Information (CBI) or other information whose disclosure is restricted by statute.

Do not submit information to the docket that you consider to be CBI or otherwise protected through www.regulations.gov. The www.regulations.gov Web site is an “anonymous access” system, which means EPA will not know your identity or contact information unless you provide it in the body of your submittal. If you submit an electronic submittal, EPA recommends that you include your name and other contact information in the body of your submittal and with any disk or CD-ROM you submit. Electronic files should avoid the use of special characters, any form of encryption, and be free of any defects or viruses. For additional information about EPA's public docket visit the EPA Docket Center homepage at http://www.epa.gov/epahome/dockets.htm.

EPA will also hold a public hearing on this notice. We will announce the public hearing date and location in a supplemental Federal Register notice.

B. Submitting CBI

Do not submit this information to EPA through www.regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

C. Tips for Preparing Your Comments

When submitting comments, remember to:

• Identify the action by docket number and other identifying information (subject heading, Federal Register date and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified in the DATES section above.

II. Additional Information

In a March 22, 2017, Federal Register document, the Environmental Protection Agency announced its intention to reconsider the Final Determination of the Mid-term Evaluation of greenhouse gas emissions standards for model year 2022-2025 light-duty vehicles and to coordinate its reconsideration with the parallel rulemaking process to be undertaken by the Department of Transportation's National Highway Traffic Safety Administration (NHTSA) regarding Corporate Average Fuel Economy (CAFE) standards for cars and light trucks for the same model years.² In this document, EPA is announcing that it is reconsidering whether the light-duty vehicle greenhouse gas standards previously established for model years 2022-2025 are appropriate under section 202(a) of the Clean Air Act and invites stakeholders to submit any comments, data, and information they believe are relevant to the Administrator's reconsideration of the Final Determination and in particular, highlight any new information. As part of a 2012 joint final rulemaking by the EPA and NHTSA, the Mid-term Evaluation process was codified in EPA regulation for greenhouse gas emission standards for model years 2017-2025 light-duty vehicles, which requires EPA to determine no later than April 1, 2018, whether the standards for model years 2022-2025 are appropriate.³ In November 2016, EPA issued a proposed determination for the Mid-Term Evaluation.⁴ On January 12, 2017, the EPA Administrator signed the Final Determination of the Mid-Term Evaluation.

² 82 FR 14671.

³ 77 FR 62624 (October 15, 2012). NHTSA is statutorily required to conduct a de novo rulemaking on MY 2022 to 2025 standards for light-duty vehicles. NHTSA has recently taken the first step in this process by publishing the “Notice of Intent To Prepare an Environmental Impact Statement for Model Year 2022-2025 Corporate Average Fuel Economy Standards” on July 26, 2017.

⁴ 81 FR 87927 (Dec. 6, 2016).

Some stakeholders previously commented that they were preparing studies to inform the Mid-term Evaluation that were not ready for submission during the previous Mid-term Evaluation comment periods. This additional comment period provides an opportunity for commenters to submit to EPA additional studies and other materials as well as to complete the preparation of their comments, or submit additional comments in light of newly available information. There is an existing body of EPA analyses and public comments already in the docket. Please note that the agency is primarily interested in comments relevant to the reconsideration of the Final Determination, rather than the Technical Assessment Report (TAR), which is not being reopened for comment in this document. Additionally, NHTSA has been working closely with stakeholders to develop its forthcoming rulemaking since the March 2017 joint document with EPA, and encourages commenters wishing to inform those efforts to directly participate in NHTSA's rulemaking process.

EPA's reconsideration will be conducted in accordance with the regulations EPA established for the Mid-term Evaluation at 40 CFR 86.1818-12(h). These regulations state that in making the required determination as to whether the existing standards are appropriate under section 202(a) of the Clean Air Act, the Administrator shall consider the information available on the factors relevant to setting greenhouse gas emission standards under section 202(a) of the Clean Air Act for model years 2022 through 2025, including but not limited to:

• The availability and effectiveness of technology, and the appropriate lead time for introduction of technology;

• The cost on the producers or purchasers of new motor vehicles or new motor vehicle engines;

• The feasibility and practicability of the standards;

• The impact of the standards on reduction of emissions, oil conservation, energy security, and fuel savings by consumers;

• The impact of the standards on the automobile industry;

• The impacts of the standards on automobile safety;

• The impact of the greenhouse gas emission standards on the Corporate Average Fuel Economy standards and a national harmonized program; and

• The impact of the standards on other relevant factors.⁵

⁵ 40 CFR 86.1818-12(h)(1).

Pursuant to 40 CFR 86.1818-12(h)(1)(viii), EPA also invites comments on the following other factors relevant to setting greenhouse gas emission standards under section 202(a) of the Clean Air Act for model years 2022 through 2025:

• The impact of the standards on compliance with other air quality standards;

• The extent to which consumers value fuel savings from greater efficiency of vehicles;

• The ability for OEMs to incorporate fuel saving technologies, including those with “negative costs,” absent the standards;

• The distributional consequences on households;

• The appropriate reference fleet;

• The impact of the standards on advanced fuels technology, including but not limited to the potential for high-octane blends;

• The availability of realistic technological concepts for improving efficiency in automobiles that consumers demand, as well as any indirect impacts on emissions;

• The advantages or deficiencies in EPA's past approaches to forecasting and projecting automobile technologies, including but not limited to baseline projections for compliance costs, technology penetration rates, technology performance, etc.;

• The impact of the standards on consumer behavior, including but not limited to consumer purchasing behavior and consumer automobile usage behavior (e.g. impacts on rebound, fleet turnover, consumer welfare effects, etc.); and

• Any relevant information in light of newly available information.

In addition, EPA seeks comment on the use of alternative methodologies and modeling systems to assess both analytical inputs and the standards, including but not limited to the Department of Energy's (DOE's) Argonne National Laboratory's Autonomie full vehicle simulation tool and DOT's CAFE Compliance and Effects Model.

In accord with the schedule set forth in its regulations, the EPA intends to make a Final Determination regarding the appropriateness of the model year 2022-2025 greenhouse gas standards, and potentially the model year 2021 greenhouse gas standard, no later than April 1, 2018.

In this document, in the interest of harmonization between the GHG and CAFE programs, EPA is also requesting comment on the separate question of whether the light-duty vehicle greenhouse gas standards established for model year 2021 are appropriate. In its July 26, 2017, “Notice of Intent To Prepare an Environmental Impact Statement for Model Year 2022-2025 Corporate Average Fuel Economy Standards,” NHTSA stated that as part of its upcoming CAFE rulemaking, it may evaluate the model year 2021 standards it finalized in 2012 to ensure they remain “maximum feasible” (See 82 FR 34742). Please provide comment on the continued appropriateness of the model year 2021 GHG standards based on the application of the factors described above or any other factors that commenters believe are appropriate.

Dated: August 10, 2017.
Elaine L. Chao,
Secretary, Department of Transportation.
Dated: August 10, 2017.
E. Scott Pruitt,
Administrator, Environmental Protection Agency.

[FR Doc. 2017-17419 Filed 8-18-17; 8:45 am]

BILLING CODE 6560-50-P